DEPARTMENT OF HOMELAND SECURITY

Coast Guard

33 CFR Part 117

[Docket No. USCG-2014-0345]

Drawbridge Operation Regulation; Harlem River, New York, NY

AGENCY: Coast Guard, DHS.

ACTION: Notice of deviation from drawbridge regulation.

SUMMARY: The Coast Guard has issued a temporary deviation from the operating schedule that governs the Amtrak Spuyten Duyvil Bridge across the Harlem River at mile 7.9, at New York City, New York. The deviation is necessary to facilitate repairs to the miter rails at the bridge. This temporary deviation authorizes the bridge to remain in the closed position for seven hours.

DATES: This deviation is effective from 11 p.m. on June 6, 2014 through 6 a.m. on June 7, 2014.

ADDRESSES: The docket for this deviation, USCG-2014-0345 is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Joe Arca, Project Officer, First Coast Guard District, telephone (212) 668-7165, email joe.m.arca@uscg.mil. If you have questions on viewing the docket, call Cheryl Collins, Program Manager, Docket Operations, telephone 202-366-9826.

SUPPLEMENTARY INFORMATION: The Amtrak Spuyten Duyvil Bridge across the Harlem River at mile 7.9, at New York City, New York, has a vertical clearance in the closed position of 5 feet at mean high water and 9 feet at mean low water. The existing drawbridge operation regulations are listed at 33 CFR 117.789(d). The waterway users are seasonal recreational vessels and commercial vessels of various sizes.

The owner of the bridge, Amtrak, requested a temporary deviation from the operating schedule to facilitate replacement of the miter rails at the bridge.

Under this temporary deviation the Amtrak Spuyten Duyvil Bridge may remain in the closed position from 11 p.m. on June 6, 2014 through 6 a.m. on June 7, 2014. Vessels that can pass under the bridge in the closed position may do so at any time. There are no alternate routes for vessel traffic. The bridge could be opened in an emergency situation.

The Coast Guard will also inform the users of the waterways through our Local and Broadcast Notice to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: May 6, 2014.
C.J. Bisignano,
Supervisory Bridge Management Specialist, First Coast Guard District.

[FR Doc. 2014-11415 Filed 5-15-14; 8:45 am]

BILLING CODE 9110-04-P